DEPARTMENT OF TRANSPORTATION

Surface Transportation Board

[STB Finance Docket No. 34383]

Fremont Northwestern Railroad Company—Lease and Operation Exemption—Rail Line of the Eastern Nebraska Chapter National Railway Historical Society

Fremont Northwestern Railroad Company (FNW), a noncarrier, has filed a verified notice of exemption under 49 CFR 1150.31 to lease and operate a 9.5-mile rail line owned by the Eastern Nebraska Chapter National Railway Historical Society (ENC) extending from milepost 0.69, a point of connection with a rail line of Union Pacific Railroad Company in Freemont, to milepost 10.01, a point 2 miles north of Nickerson, in Dodge County, NE. FNW certifies that its projected annual revenues will not exceed those that would qualify it as a Class III rail carrier and will not exceed $5 million.

FNW states that an agreement with ENC was reached on July 15, 2003, wherein FNW was given exclusive rights to provide freight service on the line. The line is currently being used only for tourist passenger train service that is operated by the Fremont & Elkhorn Valley Railroad (FEVR),¹ a tourist/museum carrier. FEVR will have no freight rights or freight responsibilities on the line.

¹ FEVR is a wholly owned subsidiary of ENC.

The transaction was due to be consummated on or after July 29, 2003, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34383, must be filed with the Surface Transportation Board, 1925 K Street, NW., Washington, DC 20423-0001. In addition, one copy of each pleading must be served on Lee Wilmart, President, Fremont Northwestern Railroad Company, P.O. Box 185, Fremont, NE 68026-0185.

Board decisions and notices are available on our website at http://www.stb.dot.gov.

Decided: August 1, 2003.
By the Board, David M. Konschnik, Director, Office of Proceedings.
Vernon A. Williams,
Secretary.

[FR Doc. 03-20284 Filed 8-7-03; 8:45 am]

BILLING CODE 4915-00-P